DEPARTMENT OF TRANSPORTATION

Federal Transit Administration

Request for Grant Proposals for Prototype Development and Testing of Transit Operations Decision Support Systems (TODSS) Core Functional Requirements

AGENCY: Federal Transit Administration (FTA), DOT.

ACTION: Notice.

SUMMARY: FTA is issuing a request for grant proposals (RFP) for Prototype Development and Testing of Transit Operations Decision Support Systems (TODSS) Core Functional Requirements.

DATES: Request for grant proposals may be viewed at the Intelligent Transportation Systems (ITS) Transit Forums collaboration Web site (http://www.mitretek.org/ITSTransitforums) in the “Transit Operations Decision Support Systems (TODSS): Prototype Development and Testing Forum.” Proposals will be accepted immediately, as of the date of this notice. Proposals are due by 4 p.m., e.s.t. on Friday, July 31, 2004.

ADDRESSES: Proposals shall be addressed to Mr. Brian Cronin, Advanced Public Transportation Systems (APTS) Division, Room 9402, TRI-11, Federal Transit Administration, U.S. Department of Transportation, 400 Seventh Street, SW., Washington, DC 20590 and shall reference “TODSS Core Functional Requirement Prototype Development and Testing.”

FOR FURTHER INFORMATION CONTACT: Technical questions or concerns may be directed to Mr. Brian Cronin or Mr. Venkat Pindiprolu via phone at 202-366-4955 or via e-mail at todss@fta.dot.gov. Legal questions or concerns may be directed to Mr. James LaRusch via phone at 202-366-1936 or via e-mail at James.LaRusch@fta.dot.gov. Office hours are 8:30 a.m. to 5 p.m. e.s.t., Monday through Friday, except Federal holidays.

SUPPLEMENTARY INFORMATION: Transit Operations Decision Support Systems (TODSS) are systems designed to support dispatchers and others in real-time operations management in response to incidents, special events, and other changing conditions in order to improve operating speeds, reduce passenger wait times, and restore service when disruptions occur. In May 2003, FTA and ITS Joint Program Office (JPO) completed the “Transit Operations Decision Support Systems (TODSS): Core Functional Requirements for Identification of Service Disruptions and Provision of Service Restoration Options 1.0”. Please visit the FTA ITS Transit TODSS collaboration website to view this document (http://www.mitretek.org/ITSTransitforums). However, no installed system in the country now incorporates all of the TODSS core functional requirements for either service disruption identification or provisions of service restoration options. It was pointed out during the core requirements development that, without further proof-of-concept and prototype development and testing, it is unlikely that vendors will develop systems around them or a transit agency will incorporate the “core” functional requirements into a new system procurement. Consequently, this project provides support for implementing and testing the viability of the core requirements. The grantee is required to provide a 20-percent match. This grant solicitation is for joint participation (transit operating agency/vendor/others) proposals from transit operating agencies to implement and test the TODSS Core Functional Requirements.

The project provides support for development of the detailed functional requirements and system specific architecture and validity and verification testing of the core requirements. It is expected that the process will also be documented, and an evaluation of the core requirements with recommended changes and lessons learned be developed as a deliverable. The effort also includes presentations to, and feedback from, the TODSS working group and U.S. DOT staff (FTA and ITS JPO) at key milestones during the life of the project. FTA may select up to two prototype development sites for this effort.

Issued: May 7, 2004.
Jennifer L. Dorn,
Administrator.

[FR Doc. 04-10818 Filed 5-12-04; 8:45 am]

BILLING CODE 4910-57-M